DEPARTMENT OF HEALTH AND HUMAN SERVICES

Office of the Assistant Secretary for Planning and Evaluation; Notice of Grant Award with Southern Illinois University at Edwardsville

AGENCY: Office of the Secretary, Office of the Assistant Secretary, for Planning and Evaluation (ASPE).

The Office of the Assistant Secretary for Planning and Evaluation (ASPE) announces the award of a grant in the amount of $782,000 for the period of April 1, 2000 through March 31, 2001 to Southern Illinois University at Edwardsville in support of the SIUE Institute for Urban Research. This project was earmarked in the FY 2001 Policy Research Appropriation.

For more information contact Mrs. Adrienne D.B. Little, Grant Management Officer, Office of the Assistant Secretary for Planning and Evaluation, Room 405F, 200 Independence Avenue, SW, Washington, DC 20201.

Dated: April 3, 2000.
Margaret A. Hamburg,
Assistant Secretary for Planning and Evaluation.

[FR Doc. 00-9418 Filed 4-14-00; 8:45 am]

BILLING CODE 4154-05-M